DEPARTMENT OF THE INTERIOR

National Park Service

[NPS-WASO-NAGPRA-NPS0037014; PPWOCRADN0-PCU00RP14.R50000]

Notice of Intent To Repatriate Cultural Items: Los Angeles County Museum of Natural History, Los Angeles, CA

AGENCY: National Park Service, Interior.

ACTION: Notice.

SUMMARY: In accordance with the Native American Graves Protection and Repatriation Act (NAGPRA), the Los Angeles County Museum of Natural History (LACMNH) intends to repatriate certain cultural items that meet the definition of unassociated funerary objects and certain cultural items that meet the definition of objects of cultural patrimony, and that have a cultural affiliation with the Indian Tribes or Native Hawaiian organizations in this notice. The cultural items were removed from Orange and Los Angeles Counties, CA.

DATES: Repatriation of the cultural items in this notice may occur on or after January 4, 2024.

ADDRESSES: Amy E. Gusick, NAGPRA Officer, Los Angeles County Museum of Natural History, 900 Exposition Boulevard, Los Angeles, CA 90007, telephone (213) 763-3370, email agusick@nhm.org.

SUPPLEMENTARY INFORMATION: This notice is published as part of the National Park Service's administrative responsibilities under NAGPRA. The determinations in this notice are the sole responsibility of the LACMNH. The National Park Service is not responsible for the determinations in this notice. Additional information on the determinations in this notice, including the results of consultation, can be found in the summary or related records held by the LACMNH.

Description

At various times, 226 objects of cultural patrimony were removed from Laguna Beach in Orange County, CA. In 1935, A.D. Griffin found one object (a digging tool) at an unidentified site in Laguna Beach. Subsequently, this item was donated to LACMNH. At a date prior to 1971, Carl D. Hegner collected one object (a donut-shaped stone) from an unidentified site in Laguna Beach, and in 1971, the Native Daughters of the Golden West donated this item to LACMNH. At a date prior to 1966, University of Southern California professor W.J. Wallace excavated 201 objects from Cameo Cove in Laguna Beach. These items were transferred to the Laboratory of Anthropology of the Hancock Foundation (Hancock Foundation), a now-disbanded museum that was once part of the University of Southern California. On February 1, 1966, the Hancock Foundation loaned these items to LACMNH, and on March 29, 1983, the loan was converted to a donation. At one or more dates prior to 1966, 23 cultural items were removed from unidentified sites in Laguna Beach and transferred to the Hancock Foundation. On February 1, 1966, the Hancock Foundation loaned these items to LACMNH, and on March 29, 1983, the loan was converted to a donation. The 226 objects of cultural patrimony are one bead, four cobble tools, five cores, one donut-shaped stone, 90 faunal bones or bone fragments, six fire affected stones, 15 flaked stones, two groundstone fragments, one hammerstone, seven manos or mano fragments, one grooved maul, five metates or metate fragments, two ochre fragments, one mortar, two pestle fragments, eight rocks, one scraper, 73 stones, and one unidentified lithic tool.

In 1954, University of Southern California professor W.J. Wallace excavated 22 associated funerary objects at the Los Altos site (LAN-270) in Long Beach, Los Angeles County, CA. These items were transferred to the Hancock Foundation, and in 1983, the Hancock Foundation donated them to LACMNH. The 22 unassociated funerary objects are three rattles, two bone tubes, one shell, one bead, two stones, four containers or container fragments, six tools, two projectile points, and one faunal bone.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, historical, oral traditional, and Indigenous knowledge.

The Acjachemen Nation, Gabrieleno Tribes, and Tongva Tribes (“People of the Earth”) have strong cultural ties to the Laguna Beach and Long Beach coastlines. In particular, Puvungna, located on the California State University, Long Beach campus, is a site sacred to the Gabrieleno, Tongva, and Acjachemen as being associated with their Creation account and Tribal history, and is the locus of annual pilgrimages by them. The Luiseño people, which include the Pechanga Band of Indians, share cultural practices and beliefs with the Gabrieleno, Tongva, and Acjachemen, and all four groups are linguistically related.

Determinations

Pursuant to NAGPRA and its implementing regulations, and after consultation with the appropriate Indian Tribes and Native Hawaiian organizations, the LACMNH has determined that:

• The 22 cultural items described above are reasonably believed to have been placed with or near individual human remains at the time of death or later as part of the death rite or ceremony and are believed, by a preponderance of the evidence, to have been removed from a specific burial site of a Native American individual.

• The 226 cultural items described above have ongoing historical, traditional, or cultural importance central to the Native American group or culture itself, rather than property owned by an individual.

• There is a relationship of shared group identity that can be reasonably traced between the cultural items and the Pechanga Band of Indians (Previously listed as Pechanga Band of Luiseno Mission Indians of the Pechanga Reservation, California).

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 4, 2024. If competing requests for repatriation are received, the LACMNH must determine the most appropriate requestor prior to repatriation. Requests for joint repatriation of the cultural items are considered a single request and not competing requests. The LACMNH is responsible for sending a copy of this notice to the Indian Tribe identified in this notice.

Authority: Native American Graves Protection and Repatriation Act, 25 U.S.C. 3003, and the implementing regulations, 43 CFR 10.8, 10.10, and 10.14.

Dated: November 28, 2023.
Melanie O'Brien,
Manager, National NAGPRA Program.

[FR Doc. 2023-26619 Filed 12-4-23; 8:45 am]

BILLING CODE 4312-52-P